DEPARTMENT OF TRANSPORTATION

Federal Highway Administration

Surface Transportation Environment and Planning Cooperative Research Program (STEP)

AGENCY: Federal Highway Administration (FHWA), DOT.

ACTION: Notice.

SUMMARY: Section 5207 of the Safe, Accountable, Flexible, Efficient Transportation Equity Act: A Legacy for Users (SAFETEA-LU) established the Surface Transportation Environment and Planning Cooperative Research Program (STEP). The general objective of the STEP is to improve understanding of the complex relationship between surface transportation, planning and the environment. SAFETEA-LU provides $16.875 million per year for fiscal years (FY) 2006-2009 to implement this new cooperative research program. STEP is the primary source of funds to conduct all Federal Highway Administration (FHWA) research on planning and environmental issues. In addition, Congress mandated several special studies and STEP will be the funding source for those projects. STEP will also address priorities identified in the U.S. Department of Transportation Research and Development Strategic Plan (section 508 of title 23 U.S.C.) including those related to highway safety benefits and congestion reduction.

The purpose of this notice is to announce revisions to the STEP implementation strategy for FY 2008 and to request suggested lines of research for the FY 2008 STEP via the STEP Web site at http://www.fhwa.dot.gov/hep/step/index.htm.

DATES: Suggestions for lines of research should be submitted to the STEP Web site on or before August 24, 2007.

FOR FURTHER INFORMATION CONTACT: Felicia Young, Office of Interstate and Border Planning, (202) 366-1263, Felicia.young@fhwa.dot.gov; or Grace Reidy, Office of the Chief Counsel, (202) 366-6226; Federal Highway Administration, 400 Seventh Street, SW., Washington, DC 20590. Office hours are from 7:45 a.m. to 4:15 p.m., e.t., Monday through Friday, except Federal holidays.

SUPPLEMENTARY INFORMATION:

Electronic Access

An electronic copy of this notice may be downloaded from the Office of the Federal Register's home page at http://www.archives.gov and the Government Printing Office's Web site at http://www.access.gpo.gov.

Background

Section 5207 of the Safe, Accountable, Flexible, Efficient Transportation Equity Act: A Legacy for Users (Pub. L. 109-59, Aug. 10. 2005), established the Surface Transportation Environment and Planning Cooperative Research Program. STEP is a new cooperative research program for environment and planning research created in section 507 of Title 23, United States Code, Highways (23 U.S.C. 507). The general objective of the STEP is to improve understanding of the complex relationship between surface transportation, planning, and the environment.

Congestion reduction is an important element of the STEP. Transportation system congestion is one of the single largest threats to U.S. economic prosperity and the American way of life. In response to the challenges of congestion, in May 2006, the U.S. Department of Transportation (DOT) established the National Strategy to Reduce Congestion on America's Transportation Network (the “Congestion Initiative”). The Congestion Initiative is a bold and comprehensive national program to reduce congestion on the Nation's roads, rails, runways and waterways.

Traffic congestion affects virtually every aspect of peoples' lives—where people live, where they work, where they shop and how much they pay for goods and services. According to 2003 figures, in certain metropolitan areas the average rush hour driver loses as many as 93 hours per year to travel delay—equivalent to more than 2 weeks of work, amounting annually to a virtual “congestion tax” as high as $1,598 per traveler in wasted time and fuel.¹ Nationwide, congestion imposes costs on the economy of over $65 billion per year,² a figure that has more than doubled since 1993, and that would be even higher if it accounted for the significant cost of unreliability to drivers and businesses, the environmental impacts of idle related auto emissions, or increase gasoline prices.

¹ Texas Transportation Institute (TTI_, 2005 Urban Mobility Report, May 2005 (http://ttiltamu.edu/documents/mobility_report_2005.pdf), Tables 1 and 2.

² TTI, 2005 Urban Mobility Report, p. 1.

The STEP directly addresses congestion reduction efforts as part of the Planning Focus Area. Other STEP emphasis areas include goals and objectives that relate to congestion reduction. These include: Congestion; Air Quality and Global Climate Change, Bicycle/Pedestrian and Health, Environmental Streamlining/Stewardship; U.S./Canada and U.S. Mexico Border Planning; Safety Planning; Freight Planning; Travel Modeling, etc. In addition, STEP outreach efforts continue to seek partnerships that can leverage limited research funding with other stakeholders and partners in order to increase the total amount of funding available to meet the Nation's surface transportation research needs including congestion reduction.

SAFETEA-LU provides $16.875 million per year for FY 2006-2009 to implement this new cooperative research program. Due to obligation limitations, rescissions, and congressional designation of Title V Research in SAFETEA-LU, it is anticipated that approximately $11.7 million of the $16.875 million authorized will be available each fiscal year.

On March 1, 2006, FHWA published a notice in the Federal Register (71 FR 10586) announcing the creation of an FHWA Web site to provide information regarding STEP and to solicit public input on the implementation strategy for this program. After reviewing the comments received in response to this notice, FHWA published a notice in the Federal Register on August 4, 2006 (71 FR 44348), announcing the posting of the final STEP Implementation Strategy on the STEP Web site. Additionally, this notice requested suggestions be submitted via the STEP Web site for the lines of research that should be undertaken in the STEP program.

The FHWA is issuing this notice: (1) To announce revisions to the STEP Implementation Strategy for the FY 2008 STEP, and (2) to solicit comments on proposed research activities to be undertaken in the FY 2008 STEP via the STEP Web site. The STEP Implementation Strategy was revised to: update information on the graph and chart regarding historical planning and environment research funding, and to add information about proposed FY 2008 STEP including proposed funding levels, goals and potential research activities.

Suggested lines of research activities for the FY 2008 STEP may include potential research ideas related to highway safety and the Congestion Initiative. Research activities related to the Congestion Initiative could specifically include ideas to relieve urban congestion; unleash private sector investment resources; promote operational and technological improvements and target major freight bottlenecks and expand freight policy outreach.

We invite the public to visit this Web site to obtain additional information on the STEP, as well as information on the process for forwarding comments to FHWA regarding the STEP implementation plan. The URL for the STEP Web site is http://www.fhwa.dot.gov/hep/step/index.htm. The FHWA will use this Web site as a major mechanism for informing the public regarding the status of the STEP.

Authority: Section 5207 of Public Law 109-59.

Issued on: June 8, 2007.
J. Richard Capka,
Federal Highway Administrator.

[FR Doc. E7-12127 Filed 6-22-07; 8:45 am]

BILLING CODE 4910-22-P